DEPARTMENT OF ENERGY

Federal Energy Regulatory Commission

Combined Notice of Filings #1

Take notice that the Commission received the following electric rate filings:

Docket Numbers: ER22-2924-000.

Applicants: RWE Supply & Trading Americas, LLC.

Description: Supplement to September 23, 2022, RWE Supply & Trading Americas, LLC Application for Market-Based Rate Authorization.

Filed Date: 9/30/22.

Accession Number: 20220930-5454.

Comment Date: 5 p.m. ET 10/14/22.

Docket Numbers: ER22-2986-000.

Applicants: Pacific Gas and Electric Company.

Description: § 205(d) Rate Filing: Balancing Accounts Update 2023 (TRBAA, RSBAA, ECRBAA) to be effective 1/1/2023.

Filed Date: 9/30/22.

Accession Number: 20220930-5401.

Comment Date: 5 p.m. ET 10/21/22.

Docket Numbers: ER22-2987-000.

Applicants: Entergy Services, LLC, Midcontinent Independent System Operator, Inc.

Description: Schedule 41 Refund Report of Entergy Services, LLC, et al.

Filed Date: 9/26/22.

Accession Number: 20220926-5228.

Comment Date: 5 p.m. ET 10/17/22.

Docket Numbers: ER23-1-000.

Applicants: ITC Midwest LLC, Interstate Power and Light Company.

Description: § 205(d) Rate Filing: ITC Midwest LLC submits tariff filing per 35.13(a)(2)(iii: Update to O&T Agreement Exhibits and Appendices (2022) to be effective 12/2/2021.

Filed Date: 10/3/22.

Accession Number: 20221003-5024.

Comment Date: 5 p.m. ET 10/24/22.

Docket Numbers: ER23-2-000.

Applicants: PJM Interconnection, L.L.C.

Description: § 205(d) Rate Filing: Original IISA, Service Agreement No. 6615; Queue No. AF2-205 to be effective 9/2/2022.

Filed Date: 10/3/22.

Accession Number: 20221003-5130.

Comment Date: 5 p.m. ET 10/24/22.

Docket Numbers: ER23-3-000.

Applicants: ITC Midwest LLC.

Description: § 205(d) Rate Filing: Concurrence IPL Amended Exhibits and Attachments (2022) to be effective 12/2/2022.

Filed Date: 10/3/22.

Accession Number: 20221003-5131.

Comment Date: 5 p.m. ET 10/24/22.

Docket Numbers: ER23-4-000.

Applicants: New Market Solar ProjectCo 2, LLC.

Description: § 205(d) Rate Filing: SFA Amendment Filing to be effective 10/4/2022.

Filed Date: 10/3/22.

Accession Number: 20221003-5225.

Comment Date: 5 p.m. ET 10/24/22.

Docket Numbers: ER23-5-000.

Applicants: Arizona Public Service Company.

Description: § 205(d) Rate Filing: Rate Schedule No. 311, Sierra Estrella LGIA to be effective 12/3/2022.

Filed Date: 10/3/22.

Accession Number: 20221003-5237.

Comment Date: 5 p.m. ET 10/24/22.

Docket Numbers: ER23-6-000.

Applicants: Top Hat Wind Energy Holdings LLC.

Description: § 205(d) Rate Filing: Revised Market-Based Rate Tariff Filing to be effective 12/3/2022.

Filed Date: 10/3/22.

Accession Number: 20221003-5245.

Comment Date: 5 p.m. ET 10/24/22.

Docket Numbers: ER23-7-000.

Applicants: Top Hat Wind Energy LLC.

Description: § 205(d) Rate Filing: Revised Market-Based Rate Tariff Filing to be effective 12/3/2022.

Filed Date: 10/3/22.

Accession Number: 20221003-5246.

Comment Date: 5 p.m. ET 10/24/22.

Docket Numbers: ER23-8-000.

Applicants: Microgrid Networks LLC.

Description: Baseline eTariff Filing: Application for Market Based Rate Authority to be effective 10/31/2022.

Filed Date: 10/3/22.

Accession Number: 20221003-5268.

Comment Date: 5 p.m. ET 10/24/22.

Docket Numbers: ER23-9-000.

Applicants: Doc Brown LLC.

Description: Baseline eTariff Filing: Baseline new to be effective 10/4/2022.

Filed Date: 10/3/22.

Accession Number: 20221003-5274.

Comment Date: 5 p.m. ET 10/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date.

Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2022.
Debbie-Anne A. Reese,
Deputy Secretary.

[FR Doc. 2022-21877 Filed 10-6-22; 8:45 am]

BILLING CODE 6717-01-P